FEDERAL RESERVE SYSTEM

Consumer Advisory Council; Notice of Meeting

The Consumer Advisory Council will meet on Thursday, October 26, 2000. The meeting, which will be open to public observation, will take place at the Federal Reserve Board's offices in Washington, DC, in Dining Room E of the Martin Building (Terrace level). The meeting will begin at 8:45 a.m. and is expected to conclude at 1:00 p.m. The Martin Building is located on C Street, Northwest, between 20th and 21st Streets.

The Council's function is to advise the Board on the exercise of the Board's responsibilities under the Consumer Credit Protection Act and on other matters on which the Board seeks its advice. Time permitting, the Council will discuss the following topics:

Gramm-Leach-Bliley Act CRA Sunshine Regulation—Discussion of issues regarding the proposal for disclosure of CRA agreements between financial institutions and community groups.

Predatory Lending—Discussion of issues resulting from the recent hearings on the Home Ownership Equity Protection Act.

Home Mortgage Disclosure Act—Discussion of the possible revisions to Regulation C which implements the Home Mortgage Disclosure Act.

Committee Reports—Council committees will report on their work.

Other matters previously considered by the Council or initiated by Council members also may be discussed.

Persons wishing to submit views to the Council regarding any of the above topics may do so by sending written statements to Ann Bistay, Secretary of the Consumer Advisory Council, Division of Consumer and Community Affairs, Board of Governors of the Federal Reserve System, Washington, DC 20551. Information about this meeting may be obtained from Ms. Bistay, 202-452-6470. Telecommunications Device for the Deaf (TDD) users may contact Diane Jenkins, 202-452-3544.

Board of Governors of the Federal Reserve System, September 22, 2000.
Jennifer J. Johnson,
Secretary of the Board.

[FR Doc. 00-24888 Filed 9-27-00; 8:45 am]

BILLING CODE 6210-01-P